DEPARTMENT OF ENERGY

Federal Energy Regulatory Commission

[Docket No. EL06-12-000]

American Municipal Power-Ohio, Inc., Complainant, v. PJM Interconnection, L.L.C., Respondent; Notice of Complaint

October 27, 2005.

Take notice that on October 26, 2005, American Municipal Power-Ohio, Inc. (AMP-Ohio) pursuant to sections 206 and 306 of the Federal Power Act and Rule 206 of the Commission's Rules of Practice and Procedures, tendered for filing a complaint against PJM Interconnection, L.L.C. (PJM) on behalf of twelve of AMP-Ohio's member municipal utilities. AMP-Ohio requests that the Commission enforce the Amended and Restated Operating Agreement of PJM and the PJM West Reliability Assurance Agreement and require PJM to recognize and honor the transfer Unforced Capacity Credits from Dayton Power & Light Company to AMP-Ohio.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please e-mail FERCOnlineSupport@ferc.gov, or call (866) 208-3676 (toll free). For TTY, call (202) 502-8659.

Comment Date: 5 p.m. Eastern Time on November 15, 2005.

Magalie R. Salas,
Secretary.

[FR Doc. E5-6068 Filed 11-2-05; 8:45 am]

BILLING CODE 6717-01-P